DEPARTMENT OF THE INTERIOR

Bureau of Safety and Environmental Enforcement

[Docket ID BSEE-2015-0003; OMB Control Number 1014-0016; 15XE1700DX EX1SF0000.DAQ000 EEEE500000]

Information Collection Activities: Pipelines and Pipeline Rights-of-Way (ROW); Proposed Collection; Comment Request

ACTION: 60-day notice.

SUMMARY: To comply with the Paperwork Reduction Act of 1995 (PRA), BSEE is inviting comments on a collection of information that we will submit to the Office of Management and Budget (OMB) for review and approval. The information collection request (ICR) concerns a revision to the paperwork requirements in the regulations under Subpart J, Pipelines and Pipeline Rights-of-Way (ROW).

DATES: You must submit comments by June 9, 2015.

ADDRESSES: You may submit comments by either of the following methods listed below.

• Electronically go to http://www.regulations.gov. In the Search box, enter BSEE-2015-0003 then click search. Follow the instructions to submit public comments and view all related materials. We will post all comments.

• Email cheryl.blundon@bsee.gov. Mail or hand-carry comments to the Department of the Interior; Bureau of Safety and Environmental Enforcement; Regulations and Standards Branch; ATTN: Cheryl Blundon; 45600 Woodland Rd., Sterling, VA 20166. Please reference ICR 1014-0016 in your comment and include your name and return address.

FOR FURTHER INFORMATION CONTACT: Cheryl Blundon, Regulations and Standards Branch at (703) 787-1607 to request additional information about this ICR.

SUPPLEMENTARY INFORMATION: Title: 30 CFR part 250, subpart J, Pipelines and Pipeline Rights-of-Way (ROW).

Form(s): BSEE-0149.

OMB Control Number: 1014-0016.

Abstract: The Outer Continental Shelf (OCS) Lands Act at (43 U.S.C. 1334), authorizes the Secretary of the Interior to prescribe rules and regulations to necessary for the administration of the leasing provisions of the Act related to mineral resources on the OCS. Such rules and regulations apply to all operations conducted under a lease, pipeline right-of-way (ROW), or a right-of-use and easement. Section 1334(e) authorizes the Secretary to grant ROWs through the submerged lands of the OCS for pipelines “. . . for the transportation of oil, natural gas, sulphur, or other minerals, or under such regulations and upon such conditions as may be prescribed by the Secretary, . . . including (as provided in Section 1347(b) of this title) assuring maximum environmental protection by utilization of the best available and safest technologies, including the safest practices for pipeline burial. . . .”

In addition to the general rulemaking authority of the OCSLA at 43 U.S.C. 1334, section 301(a) of the Federal Oil and Gas Royalty Management Act (FOGRMA), 30 U.S.C. 1751(a), grants authority to the Secretary to prescribe such rules and regulations as are reasonably necessary to carry out FOGRMA's provisions. While the majority of FOGRMA is directed to royalty collection and enforcement, some provisions apply to offshore operations. For example, section 108 of FOGRMA, 30 U.S.C. 1718, grants the Secretary broad authority to inspect lease sites for the purpose of determining whether there is compliance with the mineral leasing laws. Section 109(c)(2) and (d)(1), 30 U.S.C. 1719(c)(2) and (d)(1), impose substantial civil penalties for failure to permit lawful inspections and for knowing or willful preparation or submission of false, inaccurate, or misleading reports, records, or other information. Because the Secretary has delegated some of the authority under FOGRMA to BSEE, 30 U.S.C. 1751 is included as additional authority for these requirements.

The Independent Offices Appropriations Act (31 U.S.C. 9701), the Omnibus Appropriations Bill (Pub. L. 104-133, 110 Stat. 1321, April 26, 1996), and OMB Circular A-25 authorize Federal agencies to recover the full cost of services that confer special benefits. Under the Department of the Interior's (DOI) implementing policy, the Bureau of Safety and Environmental Enforcement (BSEE) is required to charge fees for services that provide special benefits or privileges to an identifiable non-Federal recipient above and beyond those which accrue to the public at large. Pipeline and assignment applications are subject to cost recovery, and BSEE regulations specify the service fees.

Regulations implementing these responsibilities are among those delegated to BSEE. The regulations under 30 CFR 250, Subpart J, pertain to pipelines and pipeline rights-of-way (ROWs), a form, and related Notices to Lessees (NTLs) and Operators.

We use the information to ensure that lessees and pipeline ROW holders design the pipelines that they install, maintain, and operate are performed in a safe manner. BSEE needs information concerning the proposed pipeline and safety equipment, inspections and tests, and natural and manmade hazards near the proposed pipeline route. BSEE uses the information to review pipeline designs prior to approving an application for an ROW or lease term pipeline to ensure that the pipeline, as constructed, will provide for safe transportation of minerals through the submerged lands of the OCS. BSEE reviews proposed pipeline routes to ensure that the pipelines would not conflict with any State requirements or unduly interfere with other OCS activities. BSEE reviews proposals for taking pipeline safety equipment out of service to ensure alternate measures are used that will properly provide for the safety of the pipeline and associated facilities (platform, etc.). BSEE reviews notifications of relinquishment of ROW grants and requests to decommission pipelines for regulatory compliance and to ensure that all legal obligations are met. BSEE monitors the records concerning pipeline inspections and tests to ensure safety of operations and protection of the environment and to schedule witnessing trips and inspections. Information is also necessary to determine the point at which DOI or Department of Transportation (DOT) has regulatory responsibility for a pipeline and to be informed of the identified operator if not the same as the pipeline ROW holder.

We use the information in Form BSEE-0149, Assignment of Federal OCS Pipeline Right-of-Way Grant, to track the holdership of pipeline ROWs; as well as use this information to update the corporate database that is used to determine what leases are available for a Lease Sale and the ownership of all OCS leases. However, we made a minor revision to this form. Under Part A—Assignment—we added in the under legal description, “and any accessory information”. Under § 250.1012, pipeline ROW grants can include accessories. Therefore, when transferring a Pipeline ROW grant, the description of the pipeline ROW grant should identify everything. This will help facilitate BSEE's review when an application has been submitted.

No questions of a sensitive nature are asked. We will protect information from respondents considered proprietary under the Freedom of Information Act (5 U.S.C. 552) and its implementing regulations (43 CFR part 2); also under regulations at 30 CFR 250.197, Data and information to be made available to the public or for limited inspection, and 30 CFR 252, Outer Continental Shelf (OCS) Oil and Gas Information Program. Responses are mandatory or are required to obtain or retain a benefit.

Frequency: On occasion and as a result of the requirements.

Description of Respondents: Potential respondents comprise Federal oil, gas, or sulphur lessees and/or operators.

Estimated Reporting and Recordkeeping Hour Burden: The currently approved annual reporting burden for this collection is 55,072 burden hours and $1,824,851 non-hour cost burden. In this submission, we are requesting a total of 36,564 burden hours and $1,508,968 non-hour cost burdens. The following chart details the individual components and respective hour burden estimates of this ICR. In calculating the burdens, we assumed that respondents perform certain requirements in the normal course of their activities. We consider these to be usual and customary and took that into account in estimating the burden.

Burden Table
Citation 30 CFR 250 Subpart J and related NTL(s) | Reporting & recordkeeping requirement * | Non-hour cost burdens: Hour burden | Non-hour cost burdens: Average no. of annual responses | Non-hour cost burdens: Annual burden hours (rounded)
Lease Term (L/T) Pipeline (P/L) Applications
1000(b)(1); 1004(b)(5); 1007(a) | Submit application and all required information and notices to install new L/T P/L | 92 | 61-new L/T P/L applications | 5,612
|  | $3,541 × 61 L/T P/L applications = $216,001
1000(b)(1); 1007(b) | Submit application and all required information and notices to modify a L/T P/L | 30 | 102 modifications | 3,060
|  | $2,056 × 102 L/T P/L applications = $209,712
1000(b)(1); | Submit an application to decommission a lease-term pipeline | Burden covered under 1014-0010, 30 CFR 250, Subpart Q. |  | 0
Subtotal | 163 responses | 8,672
| $425,713 non-hour cost burdens
Right of Way (ROW) P/L Applications and Grants
1000(b)(2), (d); 1004(b)(5); 1007(a); 1009(a); 1015; 1016 | Submit application and all required information and notices for new P/L ROW grant and to install a new ROW P/L | 107 | 62-new ROW grant and P/L applications | 6,634
|  | $2,771 × 62 applications = $171,802
1000(b)(2), (3); 1007(b); 1017 | Submit application and all required information and notices to modify a P/L ROW grant and to modify an ROW P/L (includes route modifications, cessation of operations, partial relinquishments, hot taps, and new and modified accessory platforms) | 45 | 190 modifications | 8,550
|  | $4,169 × 190 applications = $792,110
1000(b)(3); 1010(h); 1017(b)(2)(ii); 1019 | Submit application and all required information and notices to relinquish P/L ROW grant | Burden covered under 1014-0010, 30 CFR 250, Subpart Q. |  | 0
1015 | Submit application and all required information and notices for a P/L ROW grant to convert a lease-term P/L to an ROW P/L | 15 | 15 conversions | 225
|  | $236 × 15 applications = $3,540
1016 | Request opportunity to eliminate conflict when an application has been rejected | 5 | 1 request | 5
1018 | Submit application and all required information and notices for assignment of a pipeline ROW grant using Form BSEE-0149 (burden includes approximately 30 minutes to fill out form) | 13 | 275 assignments | 3,575
|  | $201 × 275 P/L ROW requests = $55,275
Subtotal | 543 responses | 18,989
| $1,022,727 non-hour cost burdens
Notifications and Reports
1004(b)(5) | In lieu of a continuous volumetric comparison system, request substitution; submit any supporting documentation if requested/required | 35 | 1 submittal | 35
1007(a)(4)(i)(A); (B); (C) | Provide specified information in your pipeline application if using unbonded flexible pipe | 4 | 20 submittals | 80
1007(a)(4)(i)(D) | Provide results of third party IVA review in your pipeline application if using unbonded flexible pipe | For risers, this verification is included in the CVA analysis. For jumpers, it is not required. |  | 0
1007(a)(4)(ii) | Provide specified information in your pipeline application | 25 | 40 applications | 1,000
1008(a) | Notify BSEE before constructing or relocating a pipeline | ½ | 62 notices | 31
1008(a) | Notify BSEE before conducting a pressure test | ½ | 87 notices | 44
1008(b) | Submit L/T P/L construction report | 18 | 28 reports | 504
1008(b) | Submit ROW P/L construction report | 19 | 17 reports | 323
1008(c) | Notify BSEE of any pipeline taken out of service | ½ | 415 notices | 208
1008(d) | Notify BSEE of any pipeline safety equipment taken out of service more than 12 hours | ½ | 2 notices | 1
1008(e) | Notify BSEE of any repair and include procedures | 3 | 156 notices | 468
|  | $388 × 156 notices = $60,528
1008(e) | Submit repair report | 4 | 132 reports | 528
1008(f) | Submit report of pipeline failure analysis | ½ | 4 reports | 2
1008(g) | Submit plan of corrective action and report of any remedial action | 13 | 19 plans/reports | 247
1008(h) | Submit the results and conclusions of pipe-to-electrolyte potential measurements | 1 | 794 results | 794
1010(c) | Notify BSEE of any archaeological resource discovery | 5 | 1 notices | 5
1010(d) | Notify BSEE of P/L ROW holder's name and address changes | Not considered IC under 5 CFR 1320.3(h). |  | 0
Subtotal | 1,778 responses | 4,270
| $60,528 non-hour cost burdens
General
1000(c)(2) | Identify in writing P/L operator on ROW if different from ROW grant holder | Cover by applicable applications |  | 0
1000(c)(3) | Mark specific point on P/L where operating responsibility transfers to transporting operator or depict transfer point on a schematic located on the facility. One-time requirement after final rule published; now part of application or construction process involving no additional burdens. |  |  | 0
1000(c)(4) | Petition BSEE for exceptions to general operations transfer point description | 5 | 1 petition | 5
1000(c)(8) | Request BSEE recognize valves landward of last production facility but still located on OCS as point where BSEE regulatory authority begins (none received to date) | 1 | 1 request | 1
1000(c)(12) | Petition BSEE to continue to operate under DOT regulations upstream of last valve on last production facility (one received to date) | 40 | 1 petition | 40
1000(c)(13) | Transporting P/L operator petition to DOT and BSEE to continue to operate under BSEE regulations (none received to date) | 40 | 1 petition | 40
1004(c) | Place sign on safety equipment identified as ineffective and removed from service | See footnote 1 |  | 0
1000-1019 | General departure and alternative compliance requests not specifically covered elsewhere in subpart J regulations | 2 | 200 requests | 400
Subtotal | 204 responses | 486
Recordkeeping
1000-1008 | Make available to BSEE design, construction, operation, maintenance, testing, and repair records on lease-term P/Ls.² | 5 | 128 lease-term P/L operators | 640
1005(a) | Inspect P/L routes for indication of leakage,¹ record results, maintain records 2 years.² | 2 per month = 24 | 128 lease-term P/L operators | 3,072
1010(g) | Make available to BSEE design, construction, operation, maintenance, testing, and repair records on P/L ROW area and improvements.² | 5 | 87 P/L ROW holders | 435
Subtotal | 343 responses | 4,147
Total Hour Burdens | 3,031 responses | 36,564
Total Non-Hour Cost Burdens | $1,508,968 non-hour cost burdens
¹ These activities are usual and customary practices for prudent operators.
² Retaining these records is usual and customary business practice; required burden is minimal to make available to BSEE.
* In the future, BSEE will be allowing the option of electronic reporting for certain requirements.

Estimated Reporting and Recordkeeping Non-Hour Cost Burden: We have identified seven non-hour cost burdens, all of which are the cost recovery fees required under 30 CFR 250, Subpart J. However, the actual fee amounts are specified in 30 CFR 250.125, which provides a consolidated table of all of the fees required under the 30 CFR 250 regulations. The total of the non-hour cost burden (cost recovery fees) in this IC request is an estimated $1,508,968.

The non-hour cost burdens required in 30 CFR 250, Subpart J (and respective cost-recovery fee amount per transaction) are required under: § 250.1000(b)—New Pipeline Application (lease term)—$3,541, § 250.1000(b)—Pipeline Application Modification (lease term)—$2,056, § 250.1000(b)—Pipeline Application Modification (ROW)—$4,169, § 250.1008(e)—Pipeline Repair Notification—$388, § 250.1015(a)—Pipeline ROW Grant Application—$2,771, § 250.1015(a)—Pipeline Conversion from Lease Term to ROW—$236, § 250.1018(b)—Pipeline ROW Assignment—$201.

We have not identified any other non-hour cost burdens associated with this collection of information.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “. . . to provide notice . . . and otherwise consult with members of the public and affected agencies concerning each proposed collection of information . . .”. Agencies must specifically solicit comments to: (a) Evaluate whether the collection is necessary or useful; (b) evaluate the accuracy of the burden of the proposed collection of information; (c) enhance the quality, usefulness, and clarity of the information to be collected; and (d) minimize the burden on the respondents, including the use of technology.

Agencies must also estimate the non-hour paperwork cost burdens to respondents or recordkeepers resulting from the collection of information. Therefore, if you have other than hour burden costs to generate, maintain, and disclose this information, you should comment and provide your total capital and startup cost components or annual operation, maintenance, and purchase of service components. For further information on this burden, refer to 5 CFR 1320.3(b)(1) and (2), or contact the Bureau representative listed previously in this notice.

We will summarize written responses to this notice and address them in our submission for OMB approval. As a result of your comments, we will make any necessary adjustments to the burden in our submission to OMB.

Public Comment Procedures: Before including your address, phone number, email address, or other personal identifying information in your comment, you should be aware that your entire comment—including your personal identifying information—may be made publicly available at any time. While you can ask us in your comment to withhold your personal identifying information from public review, we cannot guarantee that we will be able to do so.

Douglas W. Morris,
Chief, Office of Offshore Regulatory Programs.

[FR Doc. 2015-08264 Filed 4-9-15; 8:45 am]

BILLING CODE 4310-VH-P